DEPARTMENT OF COMMERCE

International Trade Administration

[A-580-810, A-583-815]

Welded ASTM A-312 Stainless Steel Pipe From South Korea and Taiwan: Final Results of Expedited Sunset Reviews of the Antidumping Duty Orders

AGENCY: Import Administration, International Trade Administration, Department of Commerce.

SUMMARY: On July 1, 2011, the Department of Commerce (the Department) initiated sunset reviews of the antidumping duty orders on welded ASTM A-312 stainless steel pipe from South Korea and Taiwan, pursuant to section 751(c) of the Tariff Act of 1930, as amended (the Act). The Department has conducted expedited (120-day) sunset reviews for both orders pursuant to section 751(c)(3)(B) of the Act and 19 CFR 351.218(e)(1)(ii)(C)(2). As a result of these sunset reviews, the Department finds that revocation of the antidumping duty orders would be likely to lead to continuation or recurrence of dumping.

DATES: Effective Date: November 2, 2011.

FOR FURTHER INFORMATION CONTACT: Jacqueline Arrowsmith or Dana Mermelstein, AD/CVD Operations, Office 6, Import Administration, International Trade Administration, U.S. Department of Commerce, 14th Street and Constitution Avenue NW, Washington, DC 20230; telephone: (202) 482-5255 and (202) 482-1391, respectively.

SUPPLEMENTARY INFORMATION:

Background

On July 1, 2011, the Department published the notice of initiation of the third sunset reviews of the antidumping duty orders on welded ASTM A-312 stainless steel pipe from South Korea and Taiwan pursuant to section 751(c) of the Act. See Initiation of Five-Year (“Sunset”) Review, 76 FR 38613 (July 1, 2011).

The Department received a letter of intent to participate on behalf of Bristol Metals LLC and Felker Bros. Corp. (collectively “domestic interested parties”), within the deadline specified in 19 CFR 351.218(d)(1)(i) for each sunset review. The companies claimed interested party status under section 771(9)(C) of the Act as producers of the subject merchandise in the United States.

The Department received an adequate substantive response to the notice of initiation from the domestic interested parties within the deadline specified in 19 CFR 351.218(d)(3)(i). We received no substantive responses from respondent interested parties with respect to either of the orders covered by these sunset reviews. As a result, pursuant to 19 CFR 351.218(e)(1)(ii)(C)(2), the Department has conducted expedited (120-day) sunset reviews of the antidumping duty orders on welded ASTM A-312 stainless steel pipe from South Korea and Taiwan .

Scope of the Orders

The merchandise subject to the antidumping duty order is welded austenitic stainless steel pipe that meets the standards and specifications set forth by the American Society for Testing and Materials (ASTM) for the welded form of chromium-nickel pipe designated ASTM A-312. The merchandise covered by the scope of the order also includes austenitic welded stainless steel pipes made according to the standards of other nations which are comparable to ASTM A-312.

Welded ASTM A-312 stainless steel pipe (WSSP) is produced by forming stainless steel flat-rolled products into a tubular configuration and welding along the seam. WSSP is a commodity product generally used as a conduit to transmit liquids or gases. Major applications for steel pipe include, but are not limited to, digester lines, blow lines, pharmaceutical lines, petrochemical stock lines, brewery process and transport lines, general food processing lines, automotive paint lines, and paper process machines. Imports of WSSP are currently classifiable under the following Harmonized Tariff Schedule of the United States (HTSUS) subheadings: 7306.40.5005, 7306.40.5015, 7306.40.5040, 7306.40.5062, 7306.40.5064, and 7306.40.5085.¹ Although these subheadings include both pipes and tubes, the scope of the antidumping duty order is limited to welded austenitic stainless steel pipes. The HTSUS subheadings are provided for convenience and customs purposes. However, the written description of the scope of the order is dispositive.

¹ HTS 7306.40.5065 previously listed in the scope of the order for this product is no longer a valid reporting number, having been replaced by 7306.40.6052 and 7306.40.6054 as of January 1, 1996.

Analysis of Comments Received

All issues raised in these reviews are addressed in the “Issues and Decision Memorandum: Final Results of Expedited Sunset Reviews of the Antidumping Duty Orders on Welded ASTM A-312 Stainless Steel Pipe from South Korea and Taiwan” from Christian Marsh, Deputy Assistant Secretary for Antidumping and Countervailing Duty Operations, to Paul Piquado, Assistant Secretary for Import Administration, dated concurrently with this notice (Issues and Decision Memorandum), which is hereby adopted by this notice. The issues discussed in the “Issues and Decision Memorandum” consist of the likelihood of continuation or recurrence of dumping and the magnitude of the margins likely to prevail if the orders were revoked. Parties can find a complete discussion of all issues raised in these reviews and corresponding recommendations in this public memorandum, which is on file in the Central Records Unit, room 7046 of the main Commerce Department building. In addition, a complete version of the Issues and Decision Memorandum can be accessed directly on the Internet at http://ia.ita.doc.gov/frn. The paper copy and electronic version of the Issues and Decision Memorandum are identical in content.

Final Results of Reviews

We determine that revocation of the antidumping duty orders on Welded ASTM A-312 Stainless Steel Pipe from South Korea and Taiwan would be likely to lead to continuation or recurrence of dumping. We determine that the following weighted-average percentage margins are likely to prevail:

Antidumping Duty Order on Welded ASTM-A312 Stainless Steel Pipe From South Korea
Manufacturer/Exporter | Weighted average margin (percent)
Sammi Metal Products Co., Ltd. | 7.92
SeAH Steel Corp (successor to Pusan Steel Pipe Co., Ltd.) ² | 2.67
All Others | 7.00

² See Certain Welded Stainless Steel Pipe from Korea; Final Results of Antidumping Duty Changed Circumstances Review, 63 FR 16979 (April 7, 1998).

Antidumping Duty Order on Welded ASTM-A312 Stainless Steel Pipe From Taiwan
Manufacturer/Exporter | Weighted average margin (percent)
Jaung Yuann Enterprise Co., Ltd. | 31.90
Yeun Chyang Industrial Co., Ltd. | 31.90
All Others | 22.92

This notice also serves as the only reminder to parties subject to administrative protective orders (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the results and notice in accordance with sections 751(c), 752(c), and 777(i)(1) of the Act.

Dated: October 26, 2011.
Paul Piquado,
Assistant Secretary for Import Administration.

[FR Doc. 2011-28425 Filed 11-1-11; 8:45 am]

BILLING CODE 3510-DS-P